COMMISSION ON CIVIL RIGHTS

Notice of Public Meeting of the Texas Advisory Committee

Notice is hereby given, pursuant to the provisions of the rules and regulations of the U.S. Commission on Civil Rights (Commission) and the Federal Advisory Committee Act (FACA) that a meeting of the Texas Advisory Committee (Committee) will convene on Wednesday, April 3, 2013, at 1:30 p.m. and adjourn at approximately 3:30 p.m. The meeting will be held at the Looscan Neighborhood Library, 2510 Willowick road, Houston, TX 77027.

The purpose of the meeting is for the Committee to receive orientation and ethic training and plan future activities. Orientation and ethics training is the first item on the agenda. After those two items are completed, the next item on the agenda is the Committee's consideration of future issues for study and alternate reporting formats.

The meeting is open to the public. Members of the public are also entitled to submit written comments. Written comments may be mailed to the Western Regional Office, U.S. Commission on Civil Rights, 300 N. Los Angeles St., Suite 1020 Los Angeles, CA 90012. They may also be emailed to the Commission at atrevino@usccr.gov. Comments must be received by May 3, 2013. Persons who desire additional information may contact Angelica Trevino of the Western Regional Office at (213) 894-3437. Hearing-impaired persons who will attend the meeting and require the services of a sign language interpreter should contact the Western Regional Office at least ten (10) working days before the scheduled date of the meeting.

Records generated from this meeting may be inspected and reproduced at the Western Regional Office, as they become available, both before and after the meeting. Persons interested in the work of this Committee are directed to the Commission's Web site, http://www.usccr.gov, or may contact the Western Regional Office at the above email or street address.

The meeting will be conducted pursuant to the rules and regulations of the Commission and FACA.

Dated in Washington, DC, March 6, 2013.
David Mussatt,
Acting Chief, Regional Programs Coordination Unit.

[FR Doc. 2013-05565 Filed 3-11-13; 8:45 am]

BILLING CODE 6335-01-P